DEPARTMENT OF TRANSPORTATION

Federal Railroad Administration

[Docket Number FRA-2021-0091]

Petition for Waiver of Compliance

This document provides the public notice that on September 7, 2021, Wisconsin Central Ltd. (WCL) and Canadian National Railway Company (collectively referred to as CN) petitioned the Federal Railroad Administration (FRA) under 49 CFR 211.51 to temporarily suspend for testing purposes, certain provisions of the Federal railroad safety regulations contained at 49 CFR 232.205, Class I brake test-initial terminal inspection. Although CN filed its petition under § 211.51, FRA concluded that considering this request under the provisions of 49 CFR part 211, subpart C, Waivers, would be more appropriate. Accordingly, FRA assigned the petition Docket Number FRA-2021-0091.

Specifically, CN seeks relief from the requirements of § 232.205(c)(ii)(B) for testing purposes which would allow CN to operate trains with a combined air flow to the brake pipe above 90 cubic feet per minute (CFM) with no individual source of air having a flow greater than 60 CFM or 15 psi gradient. CN seeks a short duration of relief to physically test braking reaction and train performance, under conditions of higher air flow, specifically caused by the addition of air sources (air cars or locomotives) that yield a more even pressure throughout the brake pipe. CN seeks to perform the testing on the WCL Chicago to Winnipeg corridor and the CN Sprague Subdivision, from November 2021 to April 2022, to test under cold temperature conditions. CN has previously conducted similar testing through an exemption granted by Transport Canada between February and April 2020 and November 2020 and March 2021. CN reports that the program yielded positive results, demonstrating that when multiple air sources were used, trains operated at a healthy pressure level in cold weather, which resulted in cars applying an even level of braking effort and greater braking efficiency.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by November 8, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-20644 Filed 9-23-21; 8:45 am]

BILLING CODE 4910-06-P